FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier and Ocean Freight Forwarder Transportation Intermediary Applicants

ADP Logistics Corp., 517 W Wrightwood Ave., Elmhurst, IL 60126. Officers:Brian Lara, Associate Vice President, (Qualifying Individual) Yinggang Chen, President.

St. John Logistics Inc., 190 Middlesex Essex Turnpike, #205, Iselin, NJ 08830. Officer:Patrick P. Pulikal, Secretary (Qualifying Individual).

America's Trans-Logistics Inc., 3301 NW 97th Ave., Doral, FL 33172-1105. Officers:Jose R. Castillo, Vice President, (Qualifying Individual) Maria C. Ucros, President.

Ocean Air Transport, Inc. dba SCM International, 101 Frontier Way, Bensenville, IL 60106. Officers:W. Neely Mallory, III, President, (Qualifying Individual) Robert E. Mallory, Director.

Ocean Freight Forwarder—Ocean Transportation Intermediary Applicants

Ameritrans Logistics, Inc., 112 SW Thomas Street, Ste. 100, Burleson, TX 76097. Officers:Michael J. Krall, President, (Qualifying Individual) Susan D. Curtis, Secretary.

OPM International Group LLC, 3315 NW 46 Street, Miami, FL 33142. Officer:Olenka Riglos, Manager (Qualifying Individual).

Dated: December 4, 2009.
Karen V. Gregory,
Secretary.

[FR Doc. E9-29366 Filed 12-8-09; 8:45 am]

BILLING CODE 6730-01-P